NUCLEAR REGULATORY COMMISSION

[NRC-2021-0183]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from August 20, 2021, to September 16, 2021. The last monthly notice was published on September 7, 2021.

DATES: Comments must be filed by November 4, 2021. A request for a hearing or petitions for leave to intervene must be filed by December 6, 2021.

ADDRESSES: You may submit comments by any of the following methods; however, the NRC encourages electronic comment submission through the Federal Rulemaking Website:

• Federal Rulemaking Website: Go to https://www.regulations.gov and search for Docket ID NRC-2021-0183. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kathy Entz, Office of Nuclear Reactor Regulation, U.S. Nuclear Regulatory Commission, Washington, DC 20555-0001, telephone: 301-415-2464, email: Kathleen.Entz@nrc.gov

SUPPLEMENTARY INFORMATION:

I. Obtaining Information and Submitting Comments

A. Obtaining Information

Please refer to Docket ID NRC-2021-0183, facility name, unit number(s), docket number(s), application date, and subject when contacting the NRC about the availability of information for this action. You may obtain publicly available information related to this action by any of the following methods:

• Federal Rulemaking Website: Go to https://www.regulations.gov and search for Docket ID NRC-2021-0183.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

B. Submitting Comments

The NRC encourages electronic comment submission through the Federal Rulemaking Website (https://www.regulations.gov). Please include Docket ID NRC-2021-0183, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this document, the Commission finds that the licensees' analyses provided, consistent with section 50.91 of title 10 of the Code of Federal Regulations (10 CFR), “Notice for public comment; State consultation,” are sufficient to support the proposed determinations that these amendment requests involve NSHC. Under the Commission's regulations in 10 CFR 50.92, “Issuance of amendment,” operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the Guidance for Electronic Submissions to the NRC (ADAMS Accession No. ML13031A056) and on the NRC website at https://www.nrc.gov/site-help/e-submittals.html.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system timestamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as described above, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Duke Energy Progress, LLC; Shearon Harris Nuclear Power Plant, Unit 1; Wake and Chatham Counties, NC
Docket No(s) | 50-400.
Application date | June 7, 2021.
ADAMS Accession No | ML21158A131.
Location in Application of NSHC | Pages 3-4 of Enclosure.
Brief Description of Amendment(s) | The proposed amendment would revise the technical specifications to reflect the transition of licensee-controlled plant procedure PLP-106, “Technical Specification Equipment List Program,” to a licensee-controlled Technical Requirements Manual.
Proposed Determination | NSHC.
Name of Attorney for Licensee, Mailing Address | David Cummings, Associate General Counsel, Mail Code DEC45, 550 South Tryon Street, Charlotte NC 28202.
NRC Project Manager, Telephone Number | Michael Mahoney, 301-415-3867.
Exelon Generation Company, LLC; Braidwood Station, Units 1 and 2, Will County, IL; Byron Station, Units 1 and 2, Ogle County, IL; Exelon Generation Company, LLC; Clinton Power Station, Unit 1; DeWitt County, IL
Docket No(s) | 50-454, 50-455, 50-456, 50-457, 50-461.
Application date | July 30, 2021.
ADAMS Accession No | ML21211A585.
Location in Application of NSHC | Pages 3-5 of Attachment 1.
Brief Description of Amendment(s) | The proposed technical specification (TS) changes add explanatory text to the Safety Function Determination Program in TS 5.5.15 (Braidwood Station and Byron Station) and TS 5.5.10 (Clinton Power Station) clarifying the “appropriate LCO for loss of function,” and that consideration does not have to be made for a loss of power in determining loss of function.
Proposed Determination | NSHC.
Name of Attorney for Licensee, Mailing Address | Tamra Domeyer, Associate General Counsel, Exelon Generation Company, LLC, 4300 Winfield Road, Warrenville, IL 60555.
NRC Project Manager, Telephone Number | Joel Wiebe, 301-415-6606.
Nebraska Public Power District; Cooper Nuclear Station; Nemaha County, NE
Docket No(s) | 50-298.
Application date | July 20, 2021.
ADAMS Accession No | ML21202A200.
Location in Application of NSHC | Pages 7-9 of Attachment 1.
Brief Description of Amendment(s) | The proposed amendment would revise Cooper Nuclear Station Technical Specifications Section 5.5.12, “Primary Containment Leakage Rate Testing Program,” to include an exception to the 24-calendar month interval exclusion of certain pathways during 10 CFR Part 50, Appendix J, Type A testing. Specifically, the amendment would extend the allowance to not vent and drain pathways during the Type A test, which have been Type B or C tested within the previous 24 calendar months of the Type A test, from 24 calendar months to 30 calendar months.
Proposed Determination | NSHC.
Name of Attorney for Licensee, Mailing Address | John C. McClure, Nebraska Public Power District, P.O. Box 499, Columbus, NE 68602-0499.
NRC Project Manager, Telephone Number | Thomas Wengert, 301-415-4037.
Northern States Power Company—Minnesota; Prairie Island Nuclear Generating Plant, Units 1 and 2; Goodhue County, MN
Docket No(s) | 50-282, 50-306.
Application date | August 6, 2021.
ADAMS Accession No | ML21218A093.
Location in Application of NSHC | Pages 18-21 of Enclosure 1.
Brief Description of Amendment(s) | The amendments request changes to the Prairie Island Nuclear Generating Plant, Units 1 and 2 (PINGP), licensing bases to implement a 24-month operating cycle. The amendment proposes to change the PINGP technical specifications (TSs) to support the change in the maximum surveillance intervals from 24 months to 30 months including changes to one TS allowable value in TS Table 3.3.2-1 and changes to TS 5.5.2 and 5.5.17. The proposed changes to TS 5.5.2 would implement TS Task Force (TSTF) Traveler 299 (TSTF-299) “Administrative Controls Program 5.5.2.b Test Interval and Exceptions.” The proposed changes to TS 5.5.17 documents the use of Generic Letter 91-04 “Changes in Technical Specification Surveillance Intervals to Accommodate a 24-Month Fuel Cycle,” to increase the surveillance requirement intervals.
Proposed Determination | NSHC.
Name of Attorney for Licensee, Mailing Address | Peter M. Glass, Assistant General Counsel, Xcel Energy, 414 Nicollet Mall—401-8, Minneapolis, MN 55401.
NRC Project Manager, Telephone Number | Robert Kuntz, 301-415-3733.
Southern Nuclear Operating Company, Inc.; Joseph M. Farley Nuclear Plant, Units 1 and 2; Houston County, AL
Docket No(s) | 50-348, 50-364.
Application date | July 29, 2021.
ADAMS Accession No | ML21210A242.
Location in Application of NSHC | Page E-10 and E-11 of Enclosure.
Brief Description of Amendment(s) | The proposed amendment would modify the licensing basis of the Joseph M. Farley Nuclear Plant, Units 1 and 2, by allowing the permanent removal of the encapsulation vessels around the first isolation valves in the recirculation suction lines for the Containment Spray and Residual Heat Removal/Low Head Safety Injection systems.
Proposed Determination | NSHC.
Name of Attorney for Licensee, Mailing Address | Millicent Ronnlund, Vice President and General Counsel, Southern Nuclear Operating Co., Inc., P.O. Box 1295, Birmingham, AL 35201-1295.
NRC Project Manager, Telephone Number | Stephanie Devlin-Gill, 301-415-5301.
STP Nuclear Operating Company; South Texas Project, Units 1 and 2; Matagorda County, TX
Docket No(s) | 50-498, 50-499.
Application date | August 10, 2021, as supplemented by letter dated September 9, 2021.
ADAMS Accession No | ML21222A227, ML21252A758.
Location in Application of NSHC | Pages 2-3 of the Enclosure.
Brief Description of Amendment(s) | The amendments would adopt Technical Specifications Task Force (TSTF) Traveler TSTF-577, Revision 1, “Revised Frequencies for Steam Generator Tube Inspections.” The amendments would modify the technical specification requirements related to steam generator tube inspections and reporting based on operating history.
Proposed Determination | NSHC.
Name of Attorney for Licensee, Mailing Address | Kym Harshaw, Vice President and General Counsel, STP Nuclear Operating Company, P.O. Box 289, Wadsworth, TX 77483.
NRC Project Manager, Telephone Number | Dennis Galvin, 301-415-6256.
Tennessee Valley Authority; Sequoyah Nuclear Plant, Units 1 and 2; Hamilton County, TN
Docket No(s) | 50-327, 50-328.
Application date | August 5, 2021.
ADAMS Accession No | ML21217A174.
Location in Application of NSHC | Pages 6-7 of Attachment 1.
Brief Description of Amendment(s) | The proposed amendments would modify technical specification requirements to permit the use of risk-informed completion times in accordance with Technical Specifications Task Force (TSTF) Traveler, TSTF-505, Revision 2, “Provide Risk-Informed Extended Completion Times—RITSTF [Risk-Informed TSTF] Initiative 4b,” dated July 2, 2018 (ADAMS Accession No. ML18183A493).
Proposed Determination | NSHC.
Name of Attorney for Licensee, Mailing Address | David Fountain, Executive VP and General Counsel, Tennessee Valley Authority, 400 West Summit Hill Drive, WT 6A, Knoxville, TN 37902.
NRC Project Manager, Telephone Number | Perry Buckberg, 301-415-1383.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Dominion Energy Nuclear Connecticut, Inc.; Millstone Power Station, Unit No. 2; New London County, CT
Docket No(s) | 50-336.
Amendment Date | September 9, 2021.
ADAMS Accession No | ML21222A230.
Amendment No(s) | 343.
Brief Description of Amendment(s) | The amendment revised the Millstone 2 Technical Specification (TS) Section 6.26, “Steam Generator (SG) Program,” and the SG tube inspection reporting requirements in TS Section 6.9.1.9, “Steam Generator Tube Inspection Report,” and made several editorial changes to the Millstone 2 TSs.
Public Comments Received as to Proposed NSHC (Yes/No) | No.
Duke Energy Carolinas, LLC; Catawba Nuclear Station, Units 1 and 2; York County, SC; Duke Energy Carolinas, LLC; McGuire Nuclear Station, Units 1 and 2; Mecklenburg County, NC; Duke Energy Carolinas, LLC; Oconee Nuclear Station, Units 1, 2, and 3; Oconee County, SC; Duke Energy Progress, LLC; Brunswick Steam Electric Plant, Units 1 and 2; Brunswick County, NC; Duke Energy Progress, LLC; H. B. Robinson Steam Electric Plant, Unit No. 2; Darlington County, SC; Duke Energy Progress, LLC; Shearon Harris Nuclear Power Plant, Unit 1; Wake and Chatham Counties, NC.
Docket No(s) | 50-413, 50-414, 50-369, 50-370, 50-269, 50-270, 50-287, 50-325, 50-324, 50-261, 50-400.
Amendment Date | August 26, 2021.
ADAMS Accession No | ML21155A213.
Amendment No(s) | 309 to NPF 35, 305 to NPF 52, No. 319 to NPF 9, 298 to NPF 17, 422 to DPR 38, 424 to DPR 47, 423 to DPR 55, 306 to DPR 71, 334 to DPR 62, 186 to NPF 63, and 270 to DPR 23.
Brief Description of Amendment(s) | These amendments are issued to revise and replace the site-specific emergency plans of the seven plants with the Duke Energy Common Emergency Plan (DECEP) with site-specific annexes. The DECEP was developed using the guidance in NUREG 0654/FEMA REP-1, “Criteria for Preparation and Evaluation of Radiological Emergency Response Plans and Preparedness in Support of Nuclear Power Plants,” Revision 2.
Public Comments Received as to Proposed NSHC (Yes/No) | No.
Duke Energy Progress, LLC; Brunswick Steam Electric Plant, Units 1 and 2; Brunswick County, NC.
Docket No(s) | 50-325, 50-324.
Amendment Date | September 29, 2020.
ADAMS Accession No | ML20269A305.
Amendment No(s) | 301 (Unit 1) and 329 (Unit 2).
Brief Description of Amendment(s) | The amendments revised the technical specification safety limit on minimum critical power ratio to reduce the need for cycle-specific changes to the value while still meeting the regulatory requirement for a safety limit.
Public Comments Received as to Proposed NSHC (Yes/No) | No
Entergy Operations, Inc.; Waterford Steam Electric Station, Unit 3; St. Charles Parish, LA
Docket No(s) | 50-382.
Amendment Date | August 24, 2021.
ADAMS Accession No | ML21131A243.
Amendment No(s) | 260.
Brief Description of Amendment(s) | The amendment revised multiple Waterford Steam Electric Station, Unit 3, technical specifications in order for the licensee to implement a modification to the existing digital microcomputers of the core protection calculator and control element assembly calculator systems.
Public Comments Received as to Proposed NSHC (Yes/No) | No.
Holtec Pilgrim, LLC and Holtec Decommissioning International; Pilgrim Nuclear Power Station; Plymouth County, MA
Docket No(s) | 50-293.
Amendment Date | August 5, 2021.
ADAMS Accession No | ML21217A175.
Amendment No(s) | 255.
Brief Description of Amendment(s) | The amendment revised the license to reflect the requirements associated with the security changes set forth in the revised Pilgrim Security Plan, Training and Qualification Plan, and Safeguards Contingency Plan (the Plan) for the independent spent fuel storage installation (ISFSI) only configuration, upon the permanent removal of all spent fuel from the spent fuel pool as per 10 CFR 72.212(b)(9). The changes to the Pilgrim Plan reflect changes in the status of the nuclear power reactor based on certifications that the licensee has submitted under 10 CFR 50.82(a) for permanent cessation of power operations and permanent removal of fuel from the reactor vessel and has completed the transfer of all irradiated fuel to the on-site ISFSI. The implementation of the proposed changes is predicated upon the completion of the transfer of all spent fuel to dry storage in casks within the ISFSI.
Public Comments Received as to Proposed NSHC (Yes/No) | No.
Holtec Pilgrim, LLC and Holtec Decommissioning International; Pilgrim Nuclear Power Station; Plymouth County, MA
Docket No(s) | 50-293.
Amendment Date | August 24, 2021.
ADAMS Accession No | ML21203A048.
Amendment No(s) | 256.
Brief Description of Amendment(s) | The NRC has issued Amendment No. 256 to Renewed Facility Operating License No. DPR-35 for the Pilgrim Nuclear Power Station (Pilgrim, the licensee) Permanently Defueled Technical Specifications in response to Holtec Decommissioning International's application dated March 17, 2021 (ADAMS Accession No. ML21076A404), and supplemental letter dated May 28, 2021, ADAMS Accession No. ML21148A199). These changes reflect the removal of all spent nuclear fuel from the spent fuel pool and its transfer to dry cask storage within an on-site independent spent fuel storage installation (ISFSI). These changes will more fully reflect the permanently shutdown status of the decommissioning facility, as well as the reduced scope of structures, systems, and components necessary to ensure plant safety now that all spent fuel has been permanently moved to the Pilgrim ISFSI (new ISFSI or ISFSI II), an activity which is scheduled to be completed in mid-November 2021.
Public Comments Received as to Proposed NSHC (Yes/No) | No.
Pacific Gas and Electric Company; Diablo Canyon Power Plant, Units 1 and 2; San Luis Obispo County, CA
Docket No(s) | 50-275, 50-323.
Amendment Date | September 2, 2021.
ADAMS Accession No | ML21160A174.
Amendment No(s) | 239 (Unit 1) and 240 (Unit 2).
Brief Description of Amendment(s) | The amendments revised Technical Specification 3.2.1, “Heat Flux Hot Channel Factor (FQ(Z)),” to implement methodology from licensing topical report WCAP 17661, Revision 1, “Improved RAOC [Relaxed Axial Offset Control] and CAOC [Constant Axial Offset Control] FQ Surveillance Technical Specifications.”
Public Comments Received as to Proposed NSHC (Yes/No) | No.
PSEG Nuclear LLC; Salem Nuclear Generating Station, Unit Nos. 1 and 2; Salem County, NJ
Docket No(s) | 50-272, 50-311.
Amendment Date | September 3, 2021.
ADAMS Accession No | ML21202A078.
Amendment No(s) | 338 (Unit No. 1) and 320 (Unit No. 2).
Brief Description of Amendment(s) | These amendments adopt Technical Specifications Task Force (TSTF) Traveler TSTF-577, “Revised Frequencies for Steam Generator Tube Inspections,” which is an approved change to the standard technical specifications, into the Salem Nuclear Generating Station, Unit Nos. 1 and 2, technical specifications.
Public Comments Received as to Proposed NSHC (Yes/No) | No.
Tennessee Valley Authority; Browns Ferry Nuclear Plant, Units 1, 2, and 3; Limestone County, AL
Docket No(s) | 50-259, 50-260, 50-296.
Amendment Date | August 30, 2021.
ADAMS Accession No | ML21214A139.
Amendment No(s) | 318, 341, and 301.
Brief Description of Amendment(s) | The amendments modified Technical Specification 3.8.6, “Battery Cell Parameters,” to clarify the operability requirements for the Unit, Shutdown Board, and Diesel Generator batteries.
Public Comments Received as to Proposed NSHC (Yes/No) | No.
Wolf Creek Nuclear Operating Corporation; Wolf Creek Generating Station, Unit 1; Coffey County, KS
Docket No(s) | 50-482.
Amendment Date | September 3, 2021.
ADAMS Accession No | ML21210A247.
Amendment No(s) | 230.
Brief Description of Amendment(s) | The amendment revised Technical Specification 3.6.3, “Containment Isolation Valves,” Condition D, to allow the use of a blind flange for Required Action D.1. In addition, the amendment changed Surveillance Requirement 3.6.3.1 to allow the use of a blind flange.
Public Comments Received as to Proposed NSHC (Yes/No) | No.

Dated: September 27, 2021.
For the Nuclear Regulatory Commission.
Michael I. Dudek,
Acting Deputy Director, Division of Operating Reactor Licensing, Office of Nuclear Reactor Regulation.

[FR Doc. 2021-21334 Filed 10-4-21; 8:45 am]

BILLING CODE 7590-01-P